DEPARTMENT OF DEFENSE

Department of the Army; Corps of Engineers

Intent to Prepare an Environmental Impact Statement on an Application for a Department of the Army Permit Under Section 404 of the Clean Water Act by the Angelina & Neches River Authority for the Construction of Lake Columbia, a Proposed 10,000-Surface-Acre Water Supply Reservoir in Smith and Cherokee Counties, TX

AGENCY: Department of the Army, U.S. Army Corps of Engineers, DoD.

ACTION: Notice of intent.

SUMMARY: The U.S. Army Corps of Engineers, Forth Worth District (USACE) has received an application for a Department of the Army permit under Section 404 of the Clean Water Act (CWA) from the Angelina & Neches River Authority (ANRA) to construct Lake Columbia. In accordance with the National Environmental Policy Act (NEPA0 of 1969 (42 U.S.C. 4321 et seq.), the USACE has determined that issuance of such a permit may have a significant impact on the quality of the human environment and, therefore, requires the preparation of an Environmental Impact Statement (EIS).

The USACE intends to prepare an EIS to assess the environmental, social, and economic effects of issuances of a Department of the Army permit under Section 404 of the CWA for discharges of dredged and fill material into waters of the United States (U.S.) associated with the construction of the proposed water supply reservoir. In the EIS, the USACE will assess potential impacts associated with a range of alternatives.

DATES: A public scoping meeting will be held on Thursday, August 18, 2005, from 3 p.m. to 9 p.m.

ADDRESSES: The public scoping meeting location is the Norman Activity Center, 526 East Commerce Street, Jacksonville, TX 75766.

FOR FURTHER INFORMATION CONTACT: For further information and/or questions about the proposed action and EIS, please contact Mr. Brent J. Jasper, Regulatory Project Manager, by letter at Regulatory Branch, CESWF-PER-R, U.S. Army Corps of Engineers, P.O. Box 17300, Forth Worth, Texas 76102-0300 or by telephone at (817) 886-1733.

SUPPLEMENTARY INFORMATION: 1. Description of the Proposed Project: The proposed dam site would be located on Mud Creek approximately three miles downstream (south) of U.S. Highway 79 east of Jacksonville. The proposed project would involve the discharge of dredged and fill material into approximately 220 acres of waters of the U.S. associated with the construction of Lake Columbia. Proposed filling activities would occur in conjunction with the construction of the dam, spillway, and staging areas. The project would impound approximately 14 miles of Mud Creek and its tributaries, and would inundate approximately 10,000 surface acres at a conservation pool elevation of 315 feet National Geodetic Vertical Dautum (NGVD). The project would adversely impact approximately 5,746.5 acres of waters of the U.S. associated with clearing, excavation, filling, and inundation.

The purpose of the proposed project is to provide water for a five-county region of East Texas, including Angelina, Cherokee, Nacogdoches, Rusk, and Smith counties. Lake Columbia would impound approximately 195,500 acre-feet of water and would provide a firm yield of 85.090 acre-feet per year.

The proposed project would likely adversely impact 5,746.5 acres of waters of the U.S. as a result of dam construction and inundation of areas within the conservation pool. Waters of the U.S. affected would include the following: 3,689 acres of forested wetlands, of which 3,652 acres are bottomland hardwood forest, 144 acres of scrub-shrub wetlands, 1,518 acres of emergent wetlands, 47 acres (204,864 linear feet) of intermittent streams, 255 acres (370,128 linear feet) of perennial streams, 63 acres of ponds, 0.5 acre of a forested hillside seep wetland, and 30 acres (14,256 linear feet) of a channelized reach of Mud Creek. The project would also result in the inundation of 2,245 acres of deciduous upland forest, 235 acres of upland shrubland, and 2,381 acres of upland grassland.

2. Alternatives: Alternatives available to the USACE are to: (1) Issue the Department of the Army permit; (2) issue the Department of the Army permit with special conditions; or (3) deny the Department of the Army permit. Alternatives available to ANRA include: (1) Constructing Lake Columbia as proposed by ANRA; (2) constructing Lake Columbia as proposed by ANRA, with modifications; (3) developing or acquiring other water supply sources; or (4) no action.

3. Scoping and Public Involvement Process: A public meeting (open house format) to gather information on the scope of the EIS, including the issues to be addressed in detail in the document will be conducted (see DATES and ADDRESSES).

4. Significant Issues: Issues to be given significant analysis in the EIS are likely to include, but will not be limited to: the effects of the lake on the immediate and adjacent property owners, nearby communities, downstream hydraulics and hydrology, streams, wetlands, surface water quality, groundwater quantity and quality, geologic resources, vegetation, fish and wildlife, threatened and endangered species, soils, prime farmland, noise, light, aesthetics, historic and pre-historic cultural resources, socioeconomics, land use, public roads, and air quality.

5. Cooperating Agencies: At this time, no other federal or state agencies are expected to be cooperating agencies in preparation of the EIS. However, numerous federal and state agencies, including the U.S. Environmental Protection Agency, the U.S. Fish and Wildlife Service, the Texas Commission on Environmental Quality, the Texas Parks and Wildlife Department, the Texas Historical Commission, and the Texas Water Development Board are expected to be involved in the preparation of, and provide comments on, the EIS.

6. Additional Review and Consultation: Compliance with other federal and state requirements that will be addressed in the EIS include, but will not be limited to, State water quality certification under Section 401 of the Clean Water Act, protection of water quality under the Texas Polluant Discharge Elimination System, protection of air quality under the Texas Air Quality Act, protection of endangered and threatened species under Section 7 of the Endangered Species Act, and protection of cultural resources under Section 106 of the National Historic Preservation Act.

7. Availability of the Draft EIS: The Draft EIS is projected to be available by June 2006. A public hearing will be conducted following the release of the Draft EIS.

Brenda S. Bowen,
Army Federal Register Liaison Officer.

[FR Doc. 05-12705 Filed 6-27-05; 8:45 am]

BILLING CODE 3710-20-M